DEPARTMENT OF EDUCATION

National Institute on Disability and Rehabilitation Research; Disability and Rehabilitation Research Projects and Centers Program; Disability Rehabilitation Research Projects (DRRP)

AGENCY: Office of Special Education and Rehabilitative Services, Department of Education.

ACTION: Notice of proposed priority.

SUMMARY: The Assistant Secretary for Special Education and Rehabilitative Services proposes a priority under the Disability and Rehabilitation Research Projects and Centers Program administered by the National Institute on Disability and Rehabilitation Research (NIDRR) on Vocational Rehabilitation: Transition Services that Lead to Competitive Employment Outcomes for Transition-Age Individuals With Blindness or Other Visual Impairments. The Assistant Secretary may use this priority for competitions in fiscal year (FY) 2006 and later years. We take this action to focus research attention on areas of national need. We intend this priority to improve rehabilitation services and outcomes for individuals with disabilities.

DATES: We must receive your comments on or before July 7, 2006.

ADDRESSES: Address all comments about this proposed priority to Donna Nangle, U.S. Department of Education, 400 Maryland Avenue, SW., room 6030, Potomac Center Plaza, Washington, DC 20204-2700. If you prefer to send your comments through the Internet, use the following address: donna.nangle@ed.gov.

FOR FURTHER INFORMATION CONTACT: Donna Nangle. Telephone: (202) 245-7462.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments on this notice of proposed priority in room 6030, 550 12th Street, SW., Potomac Center Plaza, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either: (1) Awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

This notice of proposed priority is in concert with President George W. Bush's New Freedom Initiative (NFI) and NIDRR's Final Long-Range Plan for FY 2005-2009 (Plan). The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html. Through the implementation of the NFI and the Plan, NIDRR seeks to—(1) Improve the quality and utility of disability and rehabilitation research; (2) Foster an exchange of expertise, information, and training to facilitate the advancement of knowledge and understanding of the unique needs of traditionally underserved populations; (3) Determine best strategies and programs to improve rehabilitation outcomes for underserved populations; (4) Identify research gaps; (5) Identify mechanisms of integrating research and practice; and (6) Disseminate findings.

Disability and Rehabilitation Research Projects (DRRP) Program

The purpose of the DRRP program is to plan and conduct research, demonstration projects, training, and related activities to develop methods, procedures, and rehabilitation technology that maximize the full inclusion and integration into society, employment, independent living, family support, and economic and social self-sufficiency of individuals with disabilities, especially individuals with the most severe disabilities, and to improve the effectiveness of services authorized under the Rehabilitation Act of 1973, as amended. DRRPs carry out one or more of the following types of activities, as specified and defined in 34 CFR 350.13 through 350.19: research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b).

Additional information on the DRRP program can be found at: http://www.ed.gov/rschstat/research/pubs/res-program.html#DRRP.

Priority

Background

Each year, many youths and young adults with blindness or other visual impairments move from secondary education to post-school settings including postsecondary education and the workplace. Unfortunately, many of these individuals may not receive the services necessary to make this transition successful. While data from the National Longitudinal Transition Study-2 (NLTS2) showed that the graduation rate for students with visual impairments was high (94 percent) and about two-thirds attended post-secondary education, individuals with visual impairments continued to have high rates of unemployment. Only 28 percent of those with blindness or low vision had worked for pay since leaving high school as compared to 70 percent of other students with disabilities (Cameto & Levine, 2005). A prior longitudinal study revealed comparable findings (Blackorby & Wagner, 1996). Among all working-age adults in the United States, between 1 to 1.7 million people, or 55 to 60 percent of individuals with visual impairments were not employed in 1994-1995 (Kirchner, Schmeidler & Todorov, 1999).

The Vocational Rehabilitation (VR) program is the primary Federal vehicle for assisting individuals with disabilities to obtain employment, including individuals with blindness or visual impairments. State VR agencies provide a variety of services, such as vocational evaluation, career guidance and counseling, mental and physical restoration, education, vocational training, job placement, rehabilitation technology, supported employment, and transition services ¹ to eligible individuals. Priority is given to serving individuals with the most significant disabilities. An individual who has a disability or is blind as determined pursuant to title II or XVI of the Social Security Act is considered to be an individual with a significant disability under the VR program and presumed to be eligible.

¹ The Rehabilitation Act of 1973, as amended, defines transition services in section 7(37) as “a coordinated set of activities for a student, designed within an outcome-oriented process, that promotes movement from school to post school activities, including postsecondary education, vocational training, integrated employment (including supported employment), continuing and adult education, adult services, independent living, or community participation. The coordinated set of activities shall be based upon the individual student's needs, taking into account the student's preferences and interests, and shall include instruction, community experiences, the development of employment and other post school adult living objectives, and, when appropriate, acquisition of daily living skills and functional vocational evaluation.”

State VR agencies are also required to enter into interagency agreements with State educational agencies to assist in planning for the transition of students with disabilities from school to post-school activities, including the provision of vocational rehabilitation services for those individuals who are eligible for such services. Nearly 10,000 consumers with blindness or other visual impairments who exited the VR program between fiscal years 2000 and 2004 were transition-age youth between the ages of 14 and 24 when they entered the VR program (RSA 911 Case Service Report). Approximately one-third of these individuals had received services under the Individuals with Disabilities Education Act, as amended (IDEA), while in school and, therefore, were eligible to receive transition services as part of their special education program. In 2004, about 45 percent of transition-age consumers with blindness or other visual impairments exited the VR program with an employment outcome.

Early investment in VR services provided at the very beginning of a career or employment path and may result in sustained economic benefit, including reducing dependence on Social Security Administration (SSA) benefits. Approximately 22 percent of individuals with blindness or other visual impairments were receiving SSA disability benefits, including Supplemental Security Income (SSI) or Social Security Disability Insurance (SSDI), at the time of their application to VR (FY 2005 RSA 911 Case Service Report). Further, transition-age consumers with blindness or other visual impairments were more likely to receive SSA benefits than other consumers with disabilities at application. Specifically, 30 percent of transition-age consumers with blindness or other visual impairments who exited the VR program in FY 2004 received SSA disability benefits as compared to 16 percent of consumers with other disability types (FY 2004 RSA 911 Case Service Report). At age 18, continued eligibility for SSA programs often hinges on the individual's inability to work. Although there have been significant efforts in recent years to reduce SSA beneficiary program related disincentives to work, we do not know the extent to which participation in these programs may continue to influence employment decisions for transition-age consumers with blindness or other visual impairments.

A recent study by Capella-McDonnall (2005) examined variables associated with successful employment outcomes for VR consumers with blindness or visual impairments. Based on analyses of the Longitudinal Study of the Vocational Rehabilitation Services Program (LSVRSP), the author concluded that there were four variables that have a significant association with competitive employment outcomes for VR consumers who are individuals with blindness or visual impairments. These variables were: (1) The receipt of education as a rehabilitation service that resulted in an educational certificate or degree; (2) having worked since the onset of the disability; (3) the reason for applying to VR related to obtaining a job; and (4) the relationship between the counselor and the consumer being rated as high quality. It should be noted these findings were based on a sample of VR individuals with blindness or other visual impairments aged 65 or younger.

A literature review by Nagle (2001) discussed factors that may influence poor post-school outcomes for youth with visual impairments and provided recommendations for improving transition practices. Nagle stated that it is necessary to know which services are the most useful in rehabilitation agencies for particular populations and then to tailor the services to the needs of the individual. The author argued that youths with visual impairments need increased opportunities for work experience through volunteer work, part-time work, paid summer employment, and increased exposure to a wider variety of employment opportunities. Students with visual impairments may be less aware of career options and often select goals that are associated with a narrow range of jobs. Nagle also suggested that youth with visual impairments need to gain transferable skills that will allow them to be competitive in a rapidly changing technological marketplace and to be encouraged to explore innovative job-seeking strategies.

The purpose of this priority is to support projects that will develop, demonstrate, and evaluate transition services and strategies that may lead to improved outcomes for transition-age individuals with blindness or other visual impairments, including outcomes in workforce participation, competitive employment, or other areas of postsecondary success.

References

Blackorby, J. & Wagner, M. (1996). Longitudinal postschool outcomes of youth with disabilities: Findings from the National Longitudinal Transition Study. Exceptional Children, 62, p. 399-413.

Cameto, R., Garza, N., & Levine, P. (2005). Changes in the employment status and job characteristics of out-of-school youth with disabilities. A report from the National Longitudinal Transition Study-2 (NLTS2) [Online]. Menlo Park, CA: SRI International. Retrieved January 16, 2006, from Study-2 [Online]. (2002). Retrieved June 16, 2005, from http://www.nlts2.org/pdfs/str6_ch5_emp.pdf.

Capella-McDonnall, M.E. (May, 2005). Predictors of competitive employment for blind and visually impaired consumers of vocational rehabilitation services. Journal of Visual Impairment & Blindness, 99, 303-315.

D'Amico, R. (1991). The working world awaits: Employment experiences during and shortly after secondary school. In Wagner, M., Newman, L., D'Amico, R., Jay, E.D., Butler-Nalin, P., Marder, C., and Cox, R., Youth with disabilities: How are they doing? The first comprehensive report from the National Longitudinal Study of Special Education Students. Menlo Park, CA: SRI International.

Kirchner, C., Schmeidler E., and Todorov, A. (1999). Looking at Employment Through a Lifespan Telescope: Age, Health and Employment Status of People with Serious Visual Impairment, Mississippi State, MS: Rehabilitation Research and Training Center on Blindness and Low Vision.

Moore, J.E., and Wolfe, K.E. (1996). Employment considerations for adults with low vision. In A.L. Corn & A.J. Koenig (Eds.), Foundations of low vision: Clinical and functional perspectives (pp. 340-367). New York: AFB Press.

Nagle, K.M. (2001). Transition to employment and community life for youths with visual impairments: Current status and future directions. Journal of Visual Impairment & Blindness, 95, 725-738.

U.S. Department of Education (2005). RSA 911 Case Service Report.

Wolfe, K. (1997). The key to successful school-to-work programs for blind or visually impaired students. Journal of Visual Impairment & Blindness, 91 (Suppl.). 5-7.

Priority

The Assistant Secretary for Special Education and Rehabilitative Services proposes a priority for a DRRP on VR: Transition Services that Lead to Competitive Employment Outcomes for Transition-Age Individuals With Blindness or Other Visual Impairments. Under this priority, the project must be designed to contribute to the following outcomes:

(a) Increased knowledge about factors that influence vocational rehabilitation and/or transition outcomes and contribute to the acquisition of skills that correlate with sustained competitive employment and postsecondary success for transition-age individuals with blindness or other visual impairments. The grantee must: (1) Conduct a comprehensive literature review of research in the area of VR transition services that lead to successful employment outcomes for transition-age individuals with blindness or other visual impairments; (2) conduct a preliminary analysis of the RSA 911 Case Service Report data and other appropriate data sets to identify all pertinent information related to transition services for individuals with blindness or other visual impairments; and (3) examine factors that affect employment outcomes including the types of transition services provided by VR; the types of transition services provided by special education, if any; the age of the transitioning student at the time of first contact with VR; the amount of interaction the transitioning student has with VR prior to leaving school; the relationship the transition-age individual has with the VR counselor; the transition-age individual's early employment history; the transition-age individual's dependence on SSA benefits; and the transition-age individual's socio-economic factors. In implementing item (3), the grantee must review VR case records from State VR agencies for the blind and State VR combined agencies, and interview consumers, rehabilitation professionals, teachers, postsecondary support service providers, SSA representatives, and other individuals involved in providing transition services.

(b) Improved outcomes for individuals who are blind or visually impaired. Through development, demonstration, and evaluation of intervention methods, the grantee must identify practices that support and lead to improved outcomes for transition-age individuals with blindness or other visual impairments, including outcomes in workforce participation, competitive employment, or other areas of postsecondary success. The grantee should include activities that facilitate development of skills that lead to employment (critical thinking and problem-solving skills, and personal qualities). Grantees must utilize a rigorous (e.g., experimental or quasi-experimental) design.

(c) Dissemination of research findings to State VR agencies, education agencies, consumers, researchers, and other stakeholders.

(d) Coordination with projects sponsored by NIDRR, the Rehabilitation Services Administration (RSA), and the Office of Special Education Programs-sponsored projects to ensure that research conducted under this priority builds on rather than duplicates related research and to ensure effective dissemination strategies. At a minimum, the grantee must coordinate with the NIDRR Rehabilitation Research and Training Center (RRTC) on Measuring Rehabilitation Outcomes and current RSA-sponsored research on related topics (including the post-VR experiences study and the national study of transition policies and practices in State VR agencies, and other relevant projects).

Executive Order 12866

This notice of proposed priority has been reviewed in accordance with Executive Order 12866. Under the terms of the order, we have assessed the potential costs and benefits of this regulatory action.

The potential costs associated with the notice of proposed priority are those resulting from statutory requirements and those we have determined as necessary for administering these programs effectively and efficiently.

In assessing the potential costs and benefits—both quantitative and qualitative—of this notice of proposed priority, we have determined that the benefits of the proposed priority justify the costs.

Summary of Potential Costs and Benefits

The potential costs associated with this proposed priority are minimal while the benefits are significant.

The benefits of the DRRP have been well established over the years in that similar projects have been completed successfully. This proposed priority will generate new knowledge and technologies through research, development, dissemination, utilization, and technical assistance projects.

Another benefit of this proposed priority is that the establishment of a new DRRP conducting research projects will support the President's NFI and will improve the lives of persons with disabilities. This DRRP will generate, disseminate, and promote the use of new information that will improve the options for individuals with disabilities to perform regular activities in the community.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133A, Disability Rehabilitation Research Projects)

Program Authority: 29 U.S.C. 762(g) and 764(a).

Dated: June 2, 2006.
John H. Hager,
Assistant Secretary for Special Education and Rehabilitative Services.

[FR Doc. E6-8799 Filed 6-6-06; 8:45 am]

BILLING CODE 4000-01-P